DEPARTMENT OF ENERGY

Bonneville Power Administration

Record of Decision; Electrical Interconnection of the Whistling Ridge Energy Project

AGENCY: Bonneville Power Administration (BPA), Department of Energy (DOE).

ACTION: Record of Decision (ROD).

SUMMARY: The Bonneville Power Administration (BPA) has decided to implement its part of the Proposed Action identified in the Whistling Ridge Energy Project Final Environmental Impact Statement (EIS) (DOE/EIS-0419, August 2011). Under the Proposed Action, BPA will offer Whistling Ridge Energy LLC (WRE) contract terms for interconnection of WRE's planned Whistling Ridge Energy Project (Wind Project) with the FCRTS. WRE's Wind Project will be an up to 75-megawatt (MW) wind energy facility located in Skamania County, Washington. WRE has received approval to construct and operate the Wind Project from the Governor of the State of Washington, based on the recommendation of the Washington Energy Facility Site Evaluation Council (EFSEC), which is the siting authority for the Wind Project.

To allow the interconnection of WRE's Wind Project to the FCRTS, BPA will construct and operate a new 230-kilovolt (kV) substation and associated facilities that will connect the Wind Project to BPA's existing North Bonneville-Midway 230-kV transmission line, which passes through the southern portion of the Wind Project site.¹ These interconnection facilities will be located entirely within the boundaries of the Wind Project site. BPA also will execute a Large Generation Interconnection Agreement (LGIA) with WRE to provide interconnection services for the Wind Project.

¹ This Record of Decision generally uses the term “Wind Project” to refer to all aspects of WRE's proposal except for the BPA interconnection facilities, and uses the term “Project” in referring to both the Wind Project and the BPA interconnection facilities. In this Record of Decision, “Interconnection facilities” may include any network upgrades or transmission provider interconnection facilities that are necessary to support the interconnection of the Wind Project.

ADDRESSES: This Record of Decision will be available to all interested parties and affected persons and agencies and is being sent to all stakeholders who requested a copy. Copies of the Whistling Ridge Energy Project Draft and Final EISs, the Supplement Analysis that has been prepared, and additional copies of this document can be obtained from BPA's Public Information Center, P.O. Box 3621, Portland, Oregon, 97208-3621. Copies of these documents may also be obtained by calling BPA's nationwide toll-free request line at 1-800-622-4520, or by accessing BPA's Project Web site at www.bpa.gov/go/whistling.

FOR FURTHER INFORMATION CONTACT: Amy Gardner, Transmission Project Manager, Bonneville Power Administration—TEP-TPP-1, P.O. Box 61409, Vancouver, WA 98666-1409; toll-free telephone number 1-800-622-4519; or email amgardner@bpa.gov or Katey Grange, Environmental Protection Specialist, Bonneville Power Administration—KEC-4, P.O. Box 3621, Portland, Oregon, 97208-3621; toll-free telephone number 1-800-622-4519; or email kcgrange@bpa.gov.

SUPPLEMENTARY INFORMATION:

Background

BPA and FCRTS Interconnection Requests

BPA is a federal agency that owns and operates the majority of the high-voltage electric transmission system in the Pacific Northwest. This system is known as the FCRTS. BPA has adopted an Open Access Transmission Tariff (tariff) for transmission and interconnection services on the FCRTS, generally consistent with the Federal Energy Regulatory Commission's (FERC) pro forma open access tariff.²

² Although BPA is not subject to FERC's jurisdiction, BPA follows the open access tariff as a matter of national policy. This course of action ensures that BPA will receive reciprocal and non-discriminatory access to the transmission systems of utilities that are subject to FERC's jurisdiction.

BPA's tariff establishes processes for accepting requests to interconnect to the FCRTS, conducting interconnection studies and environmental reviews for these requests, and offering LGIAs on a first-come, first served basis in response to the requests. For all requests for interconnection of generating facilities that exceed 20 MW, BPA has adopted processes that are generally consistent with FERC's Order No. 2003, Standardization of Large Generator Interconnection Agreement and Procedures, and Order No. 661, Interconnection for Wind Energy. Orders No. 2003 and 661 provide a uniform process and agreement for studying and offering interconnection to wind generating facilities exceeding 20 MW. In its Order No. 2003 compliance filing, BPA included provisions in its Large Generator Interconnection Procedures (LGIP) that reflect BPA's obligation to complete environmental review under the National Environmental Policy Act (NEPA) of a proposed large generation interconnection before deciding whether to offer a LGIA to the party requesting interconnection.

Although BPA accepts requests for interconnection of proposed and existing generating facilities to the FCRTS, BPA does not have siting authority or regulatory jurisdiction over these facilities. That is the purview of appropriate state and local entities, and BPA acknowledges and respects the authority and jurisdiction of these entities on generation facility siting matters.

WRE's Application and EIS Process

In 2009, WRE ³ submitted an Application for Site Certification to Washington EFSEC to construct and operate the Whistling Ridge Energy Project in Skamania County, Washington. EFSEC is a Washington state agency that was created to provide a “one-stop” state licensing agency for certain energy facilities in Washington. As such, EFSEC has siting authority over these energy facilities, and parties proposing to construct and operate any such facility must apply to EFSEC for siting review. In addition, energy facilities that exclusively use alternative energy resources (such as wind, solar, geothermal, landfill gas, wave or tidal action, or biomass energy) can “opt-in” to the EFSEC review and certification process. In the case of the Wind Project, WRE elected to opt in to the EFSEC process through submittal of its application.⁴ WRE's application identified a proposed wind energy facility consisting of up to 50 wind turbines that could each range in size from 1.2 to 2.5 MW, with a total installed capacity of up to approximately 75 MW. The proposal also included an Operations and Maintenance (O&M) facility, an electrical collector substation, underground collector lines and systems, and other ancillary facilities.

³ WRE is a limited liability company created by SDS Lumber Company.

⁴ More information about Washington EFSEC's siting review process for the Whistling Ridge Energy Project is available at the EFSEC Web site at: http://www.efsec.wa.gov/whistling%20ridge.shtml.

In addition to applying to EFSEC for siting of its Wind Project, WRE submitted a request to BPA to interconnect the Wind Project to the FCRTS. BPA processed the request under its LGIP, including conducting interconnection studies and environmental review of the proposed interconnection.

To meet respective obligations under the State Environmental Policy Act (SEPA) and NEPA, Washington EFSEC and BPA decided to conduct a joint environmental review and prepare a joint EIS under SEPA and NEPA for the Wind Project and proposed interconnection. BPA formally initiated the NEPA EIS process by publishing a Notice of Intent to prepare an EIS in the Federal Register (74 FR 18213) in April 2009. The Notice of Intent described the proposal and the respective roles of Washington EFSEC and BPA, and explained the environmental process and how to submit scoping comments for the Draft EIS. At the same time, BPA also sent a letter that also provided this information to approximately 250 individuals. During the EIS scoping period, BPA and EFSEC jointly conducted two public informational and EIS scoping meetings in Stevenson, Washington, and Underwood, Washington. BPA also established a Web site (www.bpa.gov/go/whistling) with information about the project and the EIS process. Comments received during scoping are described in more detail in Chapter 1 of the Final EIS and in the EIS Scoping Report (August 2009) prepared by EFSEC in consultation with BPA.⁵

⁵ The EIS Scoping Report is available at the Washington EFSEC Web site at: http://www.efsec.wa.gov/Whistling%20Ridge/SEPA/WR%20Environmental.shtml.

In May 2010, BPA and EFSEC issued the Draft EIS for public review and comment. In addition to distributing the Draft EIS to individuals, organizations, and agencies who had previously requested it, BPA posted the Draft EIS at the BPA project Web site and sent letters announcing its availability to potentially interested parties. A Notice of Availability of the Draft EIS also was published in the Federal Register (75 FR 30023) on May 28, 2010. BPA and EFSEC initially established a 45-day review and comment period for the Draft EIS, but later extended the comment period for an additional 39 days (for a total 84-day Draft EIS comment period) based on public requests. During the Draft EIS comment period, BPA and EFSEC held two public meetings in Stevenson and Underwood, Washington to help explain the Draft EIS and to accept public comments.

BPA and EFSEC received a total of 608 comment letters on the Draft EIS. From these letters and the two Draft EIS public meetings, BPA and EFSEC identified approximately 2,100 individual comments. After careful consideration of all of these comments, BPA and EFSEC issued the Final EIS for the Project in August 2011. The Final EIS responded to all comments received on the Draft EIS and made necessary corrections and revisions to the EIS text. As with the Draft EIS, BPA distributed the Final EIS to individuals, organizations, and agencies who had previously requested it, posted it at the BPA project Web site, and sent out letters announcing its availability to potentially interested parties. A Notice of Availability of the Final EIS also was published in the Federal Register (76 FR 54767) on September 2, 2011.

EFSEC's Adjudicative Proceeding

Concurrent with preparation of the EIS for the Project, EFSEC also held an adjudicative proceeding for WRE's application under Chapter 34.05 of the Revised Code of Washington (RCW) as part of its siting review process for the Wind Project. EFSEC's adjudicatory proceedings are a formal hearing process similar to a courtroom proceeding, in which the applicant and opponents are allowed the opportunity to present information to support their cases concerning the applicant's proposed project.

As an initial step, EFSEC held a land use hearing for the Wind Project in May 2009. This hearing was held to determine whether the Wind Project was consistent with applicable local and regional land use plans and zoning ordinances. In addition to taking evidence at this hearing, 16 witnesses testified at the hearing concerning the Wind Project. EFSEC also received almost 400 comment letters and evidentiary submissions regarding land use consistency.

EFSEC then conducted its adjudicative proceeding for the Wind Project. After issuing a notice of intent to hold the proceeding, several prehearing conferences were held between July 2009 and December 2010. The formal adjudicative hearing was then held over several days in January 2011. In addition to receiving testimony from 17 parties and 65 witnesses on the adjudication hearing record, EFSEC also received almost 400 written submissions regarding the adjudication.

In October 2011, Washington EFSEC issued its Final Adjudicative Order for the Wind Project that presented its conclusions and findings concerning both the land use hearing and the adjudicative proceeding.⁶ Regarding land use consistency, EFSEC noted that the Wind Project site is located in an area within Skamania County that is designated as “Conservancy” by the County's Comprehensive Plan and that is unmapped under the County's Zoning Ordinance. After considering several factors, EFSEC determined that the Wind Project is consistent with the Conservancy designation in the Comprehensive Plan, and that the Wind Project is compliant with current zoning in the unmapped zone because wind generation has not been found to be a nuisance by a court.

⁶ EFSEC's Final Adjudicative Order for the Wind Project is available at: http://www.efsec.wa.gov/Whistling%20Ridge/Adjudication/Orders/WR%20Adj%20Order%20868%2010-7-2011.pdf.

Regarding the adjudicative proceeding, EFSEC found that need existed for the Wind Project, especially considering RCW 80.50.010's recognition of the “pressing need for increased energy facilities” and legislation that required sustainable energy to account for 15 percent of the State's energy supply by 2020. See RCW 19.285.010. EFSEC then turned to the issue of whether the Wind Project would create a net benefit after considering its impacts. EFSEC found that the “most hotly contested” impact was on the aesthetic and cultural heritage of the area, largely due to the visibility of some of the Wind Project's proposed wind turbines from the Columbia River Gorge National Scenic Area (Scenic Area) as well as other portions of the Columbia River Gorge. EFSEC noted that while the Wind Project is not the first development to occur in the area, as transmission lines, hydroelectric dams, highways, rail lines, and industrial, commercial, and residential development already exist, it nonetheless desires to preserve the views within the Columbia River Gorge as much as possible. EFSEC also noted that while most of the Wind Project's turbines would be only partially visible from only a few viewing locations, two “strings” of turbines—string A-1 through A-7 and string C-1 through C-8—would be prominently visible from certain locations within the Columbia River Gorge. Based on these concerns, EFSEC concluded that these two turbine strings should not be approved.

EFSEC's Final Adjudicative Order also addressed concerns regarding the Wind Project's impact on wildlife and wildlife habitat. It recognized that although there was significant wildlife habitat in the general area, the Project site is a managed commercial/industrial timber operation and is not pristine natural land. The Washington Department of Fish and Wildlife (WDFW) acknowledged that with appropriate mitigation measures, the Project would comply with its guidelines. After considering various arguments and evidence, EFSEC determined that with appropriate mitigation measures and monitoring, the project should go forward. Finally, the Final Adjudicative Order addressed several other issues with the Wind Project, such as noise issues, geological challenges, access road issues, cultural and archeological concerns, health and safety planning, and site restoration planning. Based on its evaluation and balancing of all of these considerations, EFSEC concluded that the Wind Project should be approved as proposed with the exception of turbine strings A-1 through A-7 and C-1 through C-8, which should be denied.

EFSEC's Recommendation and the Governor's Approval

In January 2012, Washington EFSEC transmitted its Recommendation Order for the Wind Project and associated relevant materials to the Washington State Governor.⁷ Consistent with the Final Adjudicative Order, the Recommendation Order recommended that the Governor approve all aspects of the Wind Project except for turbine strings A-1 through A-7 and C-1 through C-8, which it recommended denying. The Recommendation Order also identified suggested conditions to be imposed if the Governor were to approve the Wind Project. A draft Site Certificate Agreement (SCA) was provided with the Recommendation Order that limited the total maximum number of allowed Wind Project turbines to up to 35 turbines (thereby reflecting the denial of turbine strings A-1 through A-7 and C-1 through C-8) and that included the suggested conditions of approval. However, neither the Recommendation Order nor the draft SCA limited the total installed capacity (up to 75 MW) of the Wind Project.

⁷ The Recommendation Order (EFSEC Order No. 869) and associated recommendation materials are available at the EFSEC Web site at: http://www.efsec.wa.gov/whistling%20ridge.shtml.

In March 2012, the Governor of Washington approved the Whistling Ridge Energy Project as recommended by EFSEC in its Recommendation Order. The Governor also executed the Final SCA at that time. In her approval letter to EFSEC, the Governor explained her agreement with EFSEC concerning the denial of the two turbine strings that would be prominently visible from certain locations within the Columbia River Gorge and the balancing of visual impacts with the public interest in approving sites for alternative energy facilities. ⁸

⁸ The Final SCA and the Governor's approval letter are also available at: http://www.efsec.wa.gov/whistling%20ridge.shtml.

Legal Challenge to the Governor's Approval

In April 2012, two environmental groups—Friends of the Columbia Gorge and Save Our Scenic Area (collectively Friends)—filed a petition in Washington state court for judicial review of the Governor's approval and execution of the SCA for the Whistling Ridge Energy Project. Friends had participated in EFSEC's adjudicatory proceedings and had submitted comments during the EIS process for the Wind Project. During both processes, Friends raised various concerns about the Wind Project and urged that approval of the Project be denied.

In its petition for judicial review, Friends primarily challenged the SCA and whether it, and the process leading up to it, complied with various statutory and regulatory requirements. Friends sought invalidation of the SCA and remand to EFSEC for further study and evaluation of the Wind Project. As provided for under RCW 80.50.140, Friends' petition was certified for review directly to the Washington Supreme Court.

In August 2013, the Washington Supreme Court issued its opinion in the Friends' legal challenge to the Wind Project.⁹ After reviewing all of Friend's legal claims, the Court found no basis to reverse EFSEC's recommendation or the Governor's approval of the Wind Project. The Court first found that WRE's Application for Site Certification satisfied the requirements of the Washington Administrative Code (WAC) regarding application procedures, more particularly in the areas of assessing nighttime avian collisions, considering wind power guidelines issued by the Washington Department of Fish and Wildlife, and identifying proposed mitigation measures. Next, the Court found that EFSEC had complied with the WAC's fish and wildlife requirements. More specifically, the Court found that EFSEC had not violated the WAC's “no net loss” requirement for wildlife habitat and had properly considered the results of wildlife surveys in determining that WAC requirements were met.

⁹ The Washington Supreme Court's opinion is available at: http://www.efsec.wa.gov/Whistling%20Ridge/Appeal/88089-1%20opinion.pdf.

The Court then proceeded to reject Friends' remaining claims by finding no fault in how EFSEC had addressed a proposed mitigation parcel; mitigated for aesthetic, heritage, and recreational impacts; made a determination of consistency with Skamania County's zoning code; resolved Washington State Forest Practices Act compliance requirements; or treated Forest Practices Act compliance requirements in the SCA.

As a result, the Washington Supreme Court affirmed EFSEC's recommendation and the Governor's approval of the Wind Project.

Alternatives Considered

The Final EIS prepared jointly by Washington EFSEC and BPA considered in detail the Proposed Action and the No Action Alternative. The Final EIS also discussed other alternatives that were considered but eliminated from detailed study in the EIS. The following summarizes the alternatives that were considered in detail in the EIS.

Proposed Action

The Proposed Action involves the State of Washington's approval of WRE's Wind Project and BPA's grant of an interconnection of the Wind Project to the FCRTS. Under the Proposed Action, the Wind Project facilities and the BPA interconnection facilities will be constructed and operated within an approximately 1,150-acre site about 7 miles northwest of the City of White Salmon in Skamania County, Washington. This site is private commercial forestland in an unincorporated area of Skamania County, outside of the Scenic Area. Although the Wind Project site is relatively large, only a small portion of the site will actually be developed with Project facilities. About 56 acres would be permanently developed with these facilities, and another approximately 52 acres would be subject to temporary disturbance primarily from construction activities.¹⁰ As a longstanding commercial forestry site, no old growth forests exist in areas where the Project will be developed.

¹⁰ The acreages described in this section represent the maximum amounts identified in the Whistling Ridge Energy Project Final EIS; actual acreages for the Project as approved by the State of Washington will be less.

The Wind Project will have a total installed capacity of up to 75 MW and includes wind turbines, an electrical collector system, other components, and access roads as described below. The BPA interconnection facilities, including a substation and transmission lines, that will be constructed to interconnect the Wind Project are also described below.¹¹

¹¹ A more detailed discussion of the Proposed Action and the components of the Project is contained in Chapter 2 of the Whistling Ridge Energy Project Final EIS.

Wind Turbines

Up to 35 wind turbines, each ranging from 1.2 to 2.5 MW in generating capacity, will be installed in “strings” generally along ridgelines within the Project site.

Turbine towers will be approximately 221 to 265 feet tall at turbine hub height, and up to 426 feet tall including blades. The turbines will all be the same model, although height may vary in response to terrain. The turbine towers will be tapered, hollow tubular structures, approximately 14 feet in diameter at the base and mounted on a concrete foundation with a diameter up to approximately 60 feet. The towers will likely be painted a flat neutral gray or white color. Some of the towers will be furnished with blinking lights visible to aircraft.

In each turbine string, individual turbines will be spaced approximately 350 to 800 feet from the next (or approximately 1.5 to 2.5 times the diameter of the turbine rotor). Specific turbine strings have been identified and approved by the State of Washington through its siting process for the Wind Project. The precise location of each turbine within these limited areas will be determined during EFSEC's “micro-siting” process, which is the final technical and engineering process by which WRE will provide EFSEC with the final exact location for each turbine.

The wind turbines will operate at wind speeds from 9 to 56 miles per hour, with a rotor speed range of 10 to 20 rotations per minute. The turbines operate on a variable pitch principal in which the rotor blades rotate to keep them at the optimum angle to maximize output for all wind speeds. At speeds exceeding 56 mph, the blades feather on their axis and the rotor stops turning. Each turbine is equipped with a wind vane that signals wind direction changes to the turbine's electronic controller. The electronic controller operates electric motors (the yaw mechanism), which turn the nacelle and rotor so that each turbine faces into the wind.

As described earlier in this Record of Decision, WRE originally had proposed developing up to 50 wind turbines at the Wind Project site. Accordingly, in order to provide an analysis of the maximum potential development, a maximum 50-turbine wind project was what was described and evaluated in the EIS for the Wind Project. The State of Washington's approval of the Wind Project, however, denied turbine strings A-1 through A-7 and C-1 through C-8, thereby not approving 15 turbine sites out of the original 50 potential sites originally proposed. By authorizing up to 35 turbines, the SCA reflects this denial of these two turbine strings. In all other respects, including the maximum total installed capacity (up to 75 MW), the Wind Project remains the same as described and evaluated in the EIS.

Because the State of Washington's decision to deny turbine strings A-1 through A-7 and C-1 through C-8 occurred after the Final EIS had issued, BPA prepared a Supplement Analysis pursuant to its NEPA Regulations to review whether the resulting authorized turbine limitation constituted a “substantial change” in the Proposed Action within the meaning of NEPA.¹² In the Supplement Analysis, BPA determined that the denial of these turbines was not such a change. The Supplement Analysis that BPA has prepared is available at www.bpa.gov/ go/ whistling.

¹² U.S. Department of Energy NEPA Regulations, which are applicable to BPA, allow for the preparation of a Supplement Analysis to determine whether a new or supplemental EIS is required for changes to a proposed action covered in an existing EIS, or whether no further NEPA documentation is required. See 10 CFR 1021.314.

Electrical Collector System

In addition to wind turbines, the Wind Project includes an electrical collector system to collect and deliver the energy generated at Project turbines to the Project's collector substation. Each turbine will generate energy at approximately 575 volts (V). A 575 V to 34.5-kV transformer will be installed at each turbine, either on a transformer pad adjacent to the turbine or enclosed in the turbine's nacelle, depending on the turbine model. From there, the collected energy will be transmitted to the collector substation via underground 34.5-kV electric cables. Approximately 8.5 miles of underground collector cables will be installed. In areas where environmental constraints, geologic features, or cultural features necessitate, minor above ground placement of collector cables may occur.

All of the underground 34.5-kV electric cables will connect to the Wind Project's collector substation located in the southern portion of the Wind Project site immediately adjacent to the new BPA interconnection substation. The collector substation will include voltage transformers (non-polychlorinated biphenyl oil-filled types) to transform the collected Project energy from 34.5-kV to 230-kV so that it is suitable for delivery to the FCRTS at the new BPA substation. The collector substation will be a graveled, fenced area that would include the voltage transformers, switching equipment, other electrical equipment, and a parking area. A 50-foot cleared area will be maintained around this substation.

Other Wind Project Components

To support the Wind Project, an Operations and Maintenance (O&M) facility will be constructed. The O&M facility will be located on an approximately 5-acre area either adjacent to the Wind Project's collector substation or about one-half mile west of the Wind Project site along West Pit Road. This 5-acre area will be fenced and have a locked gate. The O&M facility will be constructed of sheet metal and be approximately 16 feet tall to the roof peak. The facility will have approximately 3,000 square feet of enclosed space, including office and workshop areas, a kitchen, bathroom, shower, and utility sink. Water for the facility will come from a new on-site well; anticipated water use at this facility is expected to be less than 5,000 gallons per day. Water used by the facility will drain into an on-site septic system. A graveled parking area for employees, visitors, and equipment will be located adjacent to the O&M facility.

In addition, a meteorological tower will be installed to collect and monitor wind speed and direction information as well as temperature, relative humidity and barometric pressure. The location for this tower will be determined during EFSEC's micro-siting process, based on a meteorologist's recommendations for an on-site location that best represents the Wind Project site's meteorological conditions. Meteorological towers are typically un-guyed lattice towers with either three or four corners that taper in size up to the tower's top. These towers are constructed so that the top of the tower—and the meteorological monitoring equipment installed there—is at the same approximate height as the hub of nearby wind turbines (i.e., in the case of the Wind Project, approximately 221 to 262 feet high).

Access Roads

Much of the Wind Project site is accessible through an already existing network of logging roads at the site. Approximately 7.9 miles of existing logging roads at the site will be improved to allow use by Project construction vehicles. These improvements generally will involve road widening and providing a gravel all-weather surface. These roads currently are generally 8 to 12 feet wide, although some are as wide as 20 feet. Most of these roads will be widened to approximately 25 feet (width of finished road), with an additional 5 feet of shoulder on either side.

In portions of the Wind Project site where there are no existing logging roads, approximately 2.4 miles of new permanent access roads will be constructed. To construct these roads, a gravel surface will be installed, compacted to meet all equipment load requirements, and maintained to reduce wind erosion and dust. In addition, some temporary access may be required at some locations. Generally, equipment will be driven across open ground to access these locations, and some minor grading may be required to allow safe access. Any temporary access routes will be re-graded and reseeded as necessary to restore vegetation after construction is completed.

Off of the Wind Project site, access to the site will occur from SR 14 and County roads (Cook-Underwood Road to Willard Road) and then via a new connection to West Pit Road which connects to the Wind Project site. Approximately 2.5 miles of roadway improvements will occur on West Pit Road, which currently varies in width between 20 and 26 feet. To create a drivable surface of 25 feet with 5 feet of clearing on each side, portions of the roadway and some corners will be widened. In addition, an existing culvert that runs along a portion of this road may need some additional lengthening if the roadway is widened over the culvert.

BPA Interconnection Facilities

BPA will construct a new substation (currently referred to as the Little Buck Substation) to interconnect the Wind Project to the FCRTS. The new BPA substation will be located adjacent to the Wind Project's collector substation in the southern portion of the Wind Project site, near the southernmost BPA transmission line corridor that passes through the site. BPA's existing Underwood Tap to Bonneville Powerhouse 1-North Camas 115-kV transmission line runs along the northern side of this corridor, while BPA's existing North Bonneville-Midway 230-kV transmission line runs along the southern side of the corridor.

Overhead lines will connect the Wind Project's collector substation to the BPA substation. The BPA substation will occupy an area of approximately 430 feet by 430 feet or approximately 4.25 acres. This area will be fenced, graded and rocked. Inside the fence, there will be a control house, six 230-kV disconnect switches, three 230-kV power circuit breakers, steel structures and towers, insulators and bus work. The graveled access roads described above will provide access to the BPA substation.

From the BPA substation, two new overhead 230-kV transmission lines will extend south for about 1,000 feet to the interconnection point on BPA's North Bonneville-Midway transmission line. These overhead lines will serve to “loop in” the new BPA substation to the North Bonneville-Midway transmission line. Ten transmission structures will be installed to provide this loop-in. Two of these structures will be installed along the North Bonneville-Midway transmission line to create a “break” in this line for the loop-in. One of these structures will direct the line north to the new substation and the other will connect it back into the existing alignment. Both structures will be steel lattice dead-end towers that will be installed entirely within the existing transmission line right-of-way. Due to topography, one of these structures will be 50 feet tall and the other will be 85 feet tall.

The other eight transmission structures will be wood pole structures installed in between the BPA substation and the interconnection point to support the two new overhead lines. Each of the two lines will have four structures installed. For each line, the structure closest to the BPA substation will be a three-pole H-frame structure as will the structure closest to the interconnection point. The remaining two structures for each line will be two-pole H-frame structures. The eight structures will be installed in a previously disturbed corridor running from the BPA substation to the interconnection point. The heights of the eight structures will range from 50 to 80 feet, depending on terrain.

In addition, because the loop-in will need to cross underneath the Underwood Tap to Bonneville Powerhouse 1-North Camas transmission line to reach the North Bonneville-Midway transmission line, a new steel lattice structure will be installed along the Underwood Tap to Bonneville Powerhouse 1-North Camas transmission line to raise its conductors such that the loop-in can safely cross underneath. This tower will be approximately 80 feet tall and installed entirely within the existing transmission line right-of-way. This tower and all other BPA interconnection facilities will be located outside of the Scenic Area.

No Action Alternative

The No Action Alternative described in the Final EIS involved the State of Washington denying WRE's Application for Site Certification for the Wind Project and/or BPA not granting interconnection of the Project to the FCRTS. As a result, the Project and its various components would not be constructed or operated under the No Action Alternative, and the environmental effects associated with Project construction and operation would not occur.¹³ Accordingly, under this alternative, the Wind Project's output would not be available to utilities seeking renewable energy resources in order to meet state renewable energy goals, or to meet the region's potential need for additional power in coming years.

¹³ At this point in time, the conclusion that the Wind Project would not be constructed and operated if BPA were to deny interconnection may no longer be true, given that the State of Washington has approved the Wind Project and granted a SCA to WRE. This state approval allows WRE to build its Wind Project regardless of BPA's action on the interconnection request. Thus, it is conceivable that even if BPA denied interconnection, WRE could still build its Wind Project and seek interconnection of the Wind Project to the transmission lines of another transmission provider, such as Klickitat or Skamania PUD. Nonetheless, for the purposes of this Record of Decision and the NEPA analysis, BPA continues to presume that the Wind Project would not be constructed and operated under the No Action Alternative, as is stated in the Final EIS.

While the Project would not be constructed or operated under the No Action Alternative, activities with environmental effects would still continue to occur on the Wind Project site. This site has been in commercial forestry use for the last century, during which the site has been logged over a series of approximately 50-year logging rotations. It is reasonable to expect that SDS Lumber and others will continue to use the site for commercial forestry production—which would include regular tree clearing, harvesting, replanting, and development of additional logging roads as necessary—for the foreseeable future if the Project is not built.

On balance and overall, however, the development of a wind generation facility at the Project site likely will result in greater local environmental impacts than would occur from continued periodic commercial forestry production under the No Action Alternative. The No Action Alternative thus is the environmentally preferable alternative.

Public Comments Received Since Issuance of the Final EIS

Following issuance of the Final EIS, BPA received comments concerning the Project and EIS from various parties. These comments can be viewed on-line at: www.bpa.gov/go/whistling. BPA has reviewed and considered all of these comments in making its decision about interconnecting the Project to the FCRTS.

Although NEPA does not require written responses to comments received on a Final EIS, this section of the Record of Decision summarizes and addresses the comments about the Project and EIS that BPA received after issuing the Whistling Ridge Energy Project Final EIS. Some of the comments that BPA received identify post-Final EIS developments that the commenter believes warrant preparation of a supplemental EIS. These post-Final EIS developments include the State of Washington's decision to deny turbine strings A-1 through A-7 and C-1 through C-8, as well as additional environmental information potentially relevant to the Wind Project. As previously indicated in this Record of Decision, BPA has prepared a Supplement Analysis to address the state's denial of certain turbine strings; this Supplement Analysis also addresses additional environmental information potentially relevant to the Wind Project that has been raised by commenters, as well as other additional information and circumstances that BPA has become aware of. For comments that identified post-Final EIS developments, a summary response to each of these comments is provided here, with a more detailed consideration and evaluation of the post-Final EIS developments and whether or not they warrant preparation of a supplemental EIS contained in the Supplement Analysis that BPA has prepared. As previously indicated, the Supplement Analysis is available at www.bpa.gov/go/whistling.

Comments were received from the following parties after the release of the Final EIS:

• U.S. Environmental Protection Agency (EPA)

• Skamania County Noxious Weed Control Board

• Confederated Tribes and Bands of the Yakama Nation (Yakama Nation)

• Seattle Audubon

• Friends of the Columbia Gorge (Friends)

EPA's letter stated that the Final EIS was responsive to and addressed the comments that they had submitted on the Draft EIS. The EPA expressed appreciation for additional clarifying environmental resource information provided in the Final EIS, other EIS changes in response to public comments, and BPA's commitment to continue to work with Tribes, state agencies, and other Federal agencies. BPA appreciates the EPA's feedback in these areas.

The Skamania County Noxious Weed Control Board sent an email to BPA that provided updated contact information and a corrected Web site link. BPA has revised its contact list for the Project to include the updated contact information, and acknowledges that the correct Board Web site link is http://www.skamaniacounty.org/noxious-weeds/.

The Yakama Nation's letter raised three main issues. BPA responded to these issues in an October 2011 letter to the Yakama Nation; the following summarizes the issues raised and BPA's responses. First, the Yakama Nation raised concerns about potential impacts to an archaeological object found in May 2011 on Chemawa Hill within the Wind Project site that was not identified in the Final EIS. Although not specifically identified in the Final EIS, the Final EIS addressed the cultural significance of Chemawa Hill and BPA acknowledges and respects that cultural significance. Additionally, the State of Washington's approval of the Wind Project did not approve the turbine strings that would have been located on Chemawa Hill, thereby eliminating the potential for impacts to any cultural resources at Chemawa Hill. Furthermore, WRE has committed to continued collaboration with the Yakama Nation regarding construction activities in potential culturally sensitive areas.

Second, the Yakama Nation's letter reminded BPA of a tribal resolution specifying that only the Yakama Nation Cultural Resource Program is authorized to represent the Yakama Nation in discussions concerning placement of Wind Project turbines in culturally sensitive areas. BPA acknowledges and respects this tribal resolution. Accordingly, although BPA is not involved in the turbine siting, in carrying out its interconnection actions, BPA has and will continue to consult with the Yakama Nation Cultural Resource Program as the designated representative for the Tribe with respect to the Project.

Third, the Yakama Nation's letter stated views on the scope of BPA's review under NEPA and the National Historic Preservation Act (NHPA) for the Project. While BPA respects the Yakama Nation's views, BPA believes the Final EIS properly identifies the scope of BPA's action for the Whistling Ridge Energy Project and that BPA has appropriately considered its action under NEPA and the NHPA, as well as its federal trust responsibilities. BPA also notes that it fully participated in the preparation of the joint NEPA/SEPA EIS that included analysis of the environmental impacts of the entire Project. Accordingly, in making a decision to allow interconnection of the Wind Project to the FCRTS, BPA considered all of the environmental information about the Project that is contained in the Final EIS.

The letter from the Seattle Audubon on behalf of itself and other groups requested that BPA and the U.S. Fish and Wildlife Service (FWS) reinitiate Section 7 consultation under the Endangered Species Act (ESA) for the Project. In its letter, Seattle Audubon stated that reinitiation of consultation was needed because conclusions made by the FWS in its July 2010 concurrence letter about the Project's effect on northern spotted owl (NSO) appeared to be based on inaccurate information, the FWS failed to evaluate key NSO information, and the FWS's June 2011 Revised Recovery Plan for the NSO needed to be evaluated.

BPA responded in a November 2011 letter in which BPA explained the standards for reinitiating consultation and found that any misstatements or possible omissions were not substantial enough to justify reinitiation of consultation, and that it was unlikely that further consideration of any corrections or omissions would change the outcome of the FWS's final determination. In a December 2011 letter, the FWS also responded to Seattle Audubon by agreeing with BPA and concluding that, based on a review of the additional information provided by Seattle Audubon as well as the Revised Recovery Plan, they were not recommending reinitiation of Section 7 consultation for the Project. In February 2012, the FWS sent BPA a letter under Section 7(a)(2) of the ESA to review and address potentially inaccurate information and possible omissions that had been identified. The FWS concluded its letter by reaffirming the determination made in its July 2010 concurrence letter that the Project is not likely to adversely affect the NSO. Additional information concerning Section 7 consultation and coordination activities for the Project after issuance of the Final EIS is provided in the Supplemental Analysis that has been prepared for the EIS.

Finally, BPA received several letters from Friends after issuance of the Final EIS that raised a variety of issues about BPA's proposed interconnection of the Wind Project and the EIS. To begin with, Friends urged BPA to deny WRE's interconnection request because Friends believes WRE has not sufficiently defined the details of the Wind Project, as approved by the State of Washington, and thus has not satisfied the BPA's information requirements for interconnections. BPA notes that it considers the information it received from WRE as part of the initial interconnection request by WRE as sufficient and at an appropriate level of detail to assess the impacts of the interconnection and complete the study phase of the interconnection process. In addition, the decision by the State of Washington to not approve certain turbines strings did not materially alter the sufficiency of this information for the purposes of interconnection studies, given that the Wind Project's maximum total installed capacity did not change, and neither did the plan of service for interconnecting the Wind Project to the FCRTS. The information requirements cited by Friends describe typical information that BPA requires, to the extent that it is applicable and necessary, at various points in the interconnection process. Consistent with BPA's normal process, BPA will obtain the more detailed technical information about Wind Project components relevant to its interconnection requirements as it refines the technical design for the BPA interconnection facilities, but it is fully expected that these refinements will not alter the basic plan of service that has already been developed. Accordingly, BPA has sufficient certainty about the Wind Project and its details to grant WRE's interconnection request.

Friends also urged BPA to not act on WRE's interconnection request until BPA updates a 2008 system impact study with Wind Project details and changes in system conditions since the study was completed. To clarify, BPA performed the 2008 system impact study in response to requests for transmission service, not a request for interconnection. Transmission service requests are handled separately and independently from interconnection requests such as the one being granted as a result of this ROD. Moreover, the 2008 system impact study was performed for transmission service requests that were effectively withdrawn from consideration soon after the 2008 study was completed. When WRE submits a transmission service request, BPA will conduct a new system impact study specific to whatever that request entails. The results of that study are not necessary for making a decision concerning the requested interconnection, and BPA believes it has a sufficient understanding at this time of potential system impacts from interconnecting the Wind Project. In addition, in recent years BPA has built new transmission facilities and made other infrastructure improvements that have helped address previously identified transmission constraints in this portion of BPA's transmission system.

Friends also believes that BPA should not act on WRE's interconnection request until WRE signs the Final SCA for the Wind Project that the Washington Governor has already signed, to ensure acceptance of the Final SCA's term and conditions by WRE. BPA notes that WRE signed the Final SCA in November 2013. Accordingly, the terms and conditions in the Final SCA, including those that serve as environmental mitigation measures, are fully binding on WRE.

A final grounds urged by Friends for denying WRE's interconnection request is that the Wind Project, as approved by the State of Washington, is not economically viable based on statements from WRE during the state's siting review process. BPA contacted WRE about this issue, and WRE recently provided BPA with a letter addressing it. In its letter, WRE affirms that the Wind Project continues to be an economically viable project for a variety of reasons. The letter points to Oregon and Washington state requirements for increasing use of renewable energy resources in utility portfolios in coming years, other state as well as federal proposals that likely would result in increased pressure to shift from fossil fuel energy sources to renewable energy, and the potential for increased demand from California for renewable energy. The letter notes that demand for renewables occurs in periodic waves, and these factors are expected to significantly increase renewable demand in coming years. WRE also attached a 2012 Declaration in Washington state court made by Jason Spadaro, President of WRE, that further elaborates on the reasons why the Wind Project is economically viable and affirms that WRE is committed to the Wind Project. This information from WRE sufficiently addresses the economic viability issue raised by Friends.

Regarding the EIS for the Project, Friends asserted in its letters that BPA should prepare a supplemental EIS for a variety of reasons. To begin with, Friends stated a supplemental EIS is necessary to address the limitation on the maximum number of wind turbines resulting from the State of Washington's approval of the Wind Project. As previously discussed in this Record of Decision, BPA reviewed this limitation through the Supplement Analysis it has prepared. In the Supplement Analysis, BPA determined that the turbine limitation did not constitute a “substantial change” in the Proposed Action within the meaning of NEPA, and that preparation of a supplemental EIS therefore was not required.

Another reason to supplement the EIS stated by Friends is that Friends believes the State of Washington's approval requires BPA to reexamine its need for action identified in the Final EIS, as well as the identified BPA purposes. As discussed in the EIS, BPA's need for action is a need to decide whether or not to grant the requested interconnection of the Wind Project to the FCRTS. This need has not changed. Furthermore, the identified BPA purposes remain the same for the state-approved Wind Project. These purposes are considered in detail below in the “BPA's Rationale for Decision” section of this Record of Decision.

Another reason stated by Friends is that increases in regional wind energy since the Final EIS was completed have affected BPA's need for action identified in the Final EIS, as well as the identified BPA purposes. As with the State of Washington's decision to limit the maximum number of turbines, the increase in regional wind energy has not changed the BPA need for action or its identified purposes. Consideration of the purposes in light of increased regional wind energy is provided in the “BPA's Rationale for Decision” section of this Record of Decision.

Another reason stated by Friends is that the summary in the Final EIS of the Applicant-identified needs for the Wind Project requires reevaluation for several reasons. To clarify, these Applicant-identified needs are not BPA's need. Nonetheless, the description of regional renewable energy needs—and more importantly for BPA's decision, project transmission needs—remains reasonably accurate today and helps provide useful context for why WRE has proposed its Wind Project. This includes the description of the Northwest Power and Conservation Council's draft Sixth Northwest Power Plan (Power Plan), which was subsequently finalized. BPA has reviewed the final Power Plan and finds that portions of the draft Power Plan that are summarized in the Final EIS remained substantially similar in the final version of the Power Plan.

Another reason stated by Friends is that BPA and EFSEC need to review several aspects of the Project under NEPA and SEPA that Friends believes are unresolved or undecided. Friends states that these aspects include technical details, mitigation measures, and construction and operational plans that are yet to be resolved and approved. Current information about the Project is sufficient to analyze its environmental impacts and meet the requirements of NEPA. If there is a change in the Project or its potential impacts at some point in the future as a result of further Project refinement, BPA would conduct appropriate additional NEPA review at that time depending on the nature and scope of any change.

Another reason stated by Friends is that the Final EIS failed to adequately evaluate wildlife impacts in the areas of quantification of bird and bat mortality from blade strikes, evaluation of the relative abundance of sensitive-status species, inclusion of critical info on impacts to bats, and disclosure of mitigation measures for wildlife impacts. The Final EIS provides sufficient consideration and analyses of these areas to meet the requirements of NEPA.

Another reason stated by Friends is that the EIS should address the FWS's June 2011 Revised Recovery Plan for the NSO. As discussed above, BPA and the FWS have determined that reinitiation of Section 7(2)(a) consultation is not needed as a result of the Revised Recovery Plan. In addition, BPA has reviewed the Revised Recovery Plan, and any additional information concerning NSO provided by the Plan does not alter the conclusions made in the final EIS about potential impacts to NSO. Correspondingly, no additional analysis concerning the Revised Recovery Plan is needed in the EIS.

Another reason stated by Friends is that additional EIS analysis of impacts to bald and golden eagles is needed to comply with the FWS's “Land-Based Wind Energy Guidelines” issued in 2012 and “Eagle Conservation Plan Guidance” issued in 2013, both of which have been reviewed by BPA. The surveys that were conducted for the Wind Project generally comport with the FWS guidance in these documents and, regardless, are sufficient for the purposes of NEPA analysis. Furthermore, BPA notes that both of these documents are intended to be guidelines to be followed only voluntarily; in other words, they are not required or mandatory. Just as importantly, both of these FWS documents provide that projects for which planning is already underway should comply with the recommendations going forward rather than conducting restudies to apply the guidance retroactively. Accordingly, additional EIS restudy is not required to address these two guidance documents.

Another reason stated by Friends is that EIS review is needed of a 2012 report entitled “Synthesis of Wind Energy Development and Potential Impacts on Wildlife in the Pacific Northwest, Oregon and Washington” by the U.S. Department of Agriculture (USDA). BPA has reviewed this report, and the analysis of wildlife impacts contained in the Final EIS remains sufficient under NEPA in light of the report. In addition, additional information provided by the report does not alter the conclusions made in the Final EIS about potential wildlife impacts. Thus, preparation of a supplemental EIS on the basis of the USDA report is not necessary.

Another reason stated by Friends is that the Final EIS fails to consider the effects of noise impacts on wildlife. BPA notes first that the Final EIS does consider disturbance of wildlife by Project construction, including through changes to the noise environment. In addition, BPA has reviewed information sources cited by Friends concerning potential operational noise impacts to wildlife and has determined that this information does not significantly alter the conclusions made in the Final EIS concerning potential operation impacts to wildlife. As discussed in the Supplement Analysis that has been prepared, the project's operational noise would occur in a landscape of managed timber land that is, and will continue to be, fragmented with ongoing disturbance. Any operational noise impacts to wildlife thus would fall within the bandwidth of overall degradation of wildlife habitat already discussed in the Final EIS.

Another reason stated by Friends is that EIS review is needed of a bibliography of noise impacts to wildlife that was published by the National Park Service in 2011. BPA has reviewed the sources included in this bibliography that are relevant to wind projects and has determined that the source reports do not alter the conclusions made in the Final EIS about potential wildlife impacts.

Another reason stated by Friends is that EIS review is needed to address recent studies on the effects of noise from operating wind turbines on human health and the human environment. BPA has reviewed these studies and determined that the analysis of potential impacts to human health from wind turbine noise that is contained in the Final EIS remains sufficient under NEPA. The studies cited by Friends largely are consistent with the discussion of potential noise impacts to humans from wind turbine operations that is contained in Section 3.7.2 of the EIS, and do not alter the conclusions made in the Final EIS about these impacts. BPA also notes EFSEC's findings that construction and operation of the Wind Project will comply with all applicable noise regulations in the State of Washington. Accordingly, a supplemental EIS is not needed to address these studies.

Another reason stated by Friends is that the EIS needs to address information from EFSEC's Final Adjudicative Order and Recommendation Order concerning the significance of impacts to scenic resources from the Wind Project. EFSEC provided a letter in December 2011 to Friends that largely addressed this issue. EFSEC's letter explained that EFSEC did not perform or use any new analysis or data for scenic impacts from what was considered in the Final EIS. EFSEC further explained that it simply duplicated the review process utilized in the EIS in making its determination concerning the significance of viewscape change for the Wind Project from various viewing sites. In so doing, EFSEC emphasized that it did not find any serious flaws in the Final EIS's analysis of scenic impacts, did not discredit any conclusions made in the EIS about these impacts, and found nothing that would violate state law. Accordingly, while EFSEC members may have developed their own opinion on scenic impacts, they did not alter or undermine the analysis of scenic impacts contained in the Final EIS. BPA concurs with EFSEC's response and believes that the Final EIS does not need to be supplemented on the basis of this issue.

Another reason stated by Friends is that the EIS understates the Project's likely scenic impacts. First, as Friends notes, the Final EIS acknowledges the scenic impacts of the Project. While Friends may disagree about the degree of those impacts, the Final EIS provides a reasonable analysis of potential scenic impacts and draws reasonable conclusions about their significance. Second, the denial by the State of Washington of turbine strings A-1 through A-7 and C-1 through C-8 served to substantially reduce the overall scenic impact of the Wind Project from various viewing points in the Columbia River Gorge, include those within the Scenic Area. The denial of these turbines thus further mitigated scenic impacts to ensure that potential levels of visual impacts would not be higher than low to moderate at any of the viewpoints examined. As a result, the conclusions in the FEIS concerning the level of potential visual impacts at various viewpoints remains relatively accurate, and the Final EIS does not need to be supplemented on the basis of this issue.

Another reason stated by Friends is that the EIS needs to address the May 2011 discovery of an archaeological object on Chemawa Hill. As is discussed above, the Final EIS adequately addresses the cultural significance of Chemawa Hill and impacts to cultural resources at this location are being avoided.

Another reason stated by Friends is that the cumulative impacts analysis in the Final EIS is outdated and inadequate, because additional wind energy resources and other development have been completed or are proposed within the cumulative impact study area since the Final EIS was issued. BPA's Supplement Analysis discusses this additional development and concludes that it either has no cumulative impacts beyond those already described in the Final EIS or has resulted in only negligible increases in cumulative impacts within the scope of those already discussed in the Final EIS. For these reasons, a supplemental EIS to further consider cumulative impacts is not necessary.

In its letters, Friends also states that it believes BPA must obtain permits under the Bald and Golden Eagle Protection Act (BGEPA) and the Migratory Bird Treaty Act (MBTA) in order to approve the interconnection. As discussed in the Final EIS, the Wind Project would not involve intentional acts in wanton disregard of bald or golden eagles under the BGEPA and would not be expected to result in a take or killing of migratory bird species within the meaning of the MBTA. Moreover, the Final SCA between the State of Washington and WRE makes WRE responsible for completing a plan to comply with requirements of these statutes. It is BPA's understanding that if a permit is required for the Wind Project under either statute, that will be the responsibility of WRE, as the owner and operator of the Wind Project, to obtain. Accordingly, it is not necessary for BPA to seek permits under the BGEPA and MBTA under these circumstances.

In addition, Friends asks BPA to consider evaluating recent information concerning an enforcement action under the MBTA related to wind projects in Wyoming and deaths of golden eagles at the Wild Horse Wind Project in central Washington State. BPA has reviewed available information concerning the Wyoming wind project enforcement action, including the U.S. Department of Justice (DOJ) press release regarding the enforcement. The Final EIS sufficiently addresses and analyzes the potential for impacts to migratory birds and eagles in a manner consistent with the recommendations of the FWS and DOJ concerning pre-construction evaluations. In addition, as discussed in the Final EIS and pursuant to the Final SCA, pre-construction raptor nest surveys will be conducted during the nesting season immediately prior to beginning site preparation, and a Technical Advisory Committee of agency professionals and other bird experts will be convened to assist with developing measures to ensure that risks to migratory birds and eagles are minimized as much as possible. Furthermore, as discussed above, the Final SCA requires that a golden eagle and bald eagle plan be completed before the Wind Project begins operations. The Final SCA also requires that this plan be completed in consultation with the FWS and WDFW, which BPA expects will ensure that these agencies are in agreement with the approach being taken. Accordingly, the information concerning the Wyoming enforcement action does not significantly change the analysis or conclusions concerning migratory birds and eagles in the Final EIS.

BPA also has reviewed available information concerning the golden eagle deaths at the Wild Horse Wind Project. The analysis of potential impacts to golden eagles completed for the Whistling Ridge Energy Project Final EIS remains sufficiently accurate even in light of this information. Furthermore, the consultation that will occur with the FWS for the golden eagle and bald eagle plan for the Wind Project will ensure that all impacts to golden eagles are appropriately considered and addressed. As part of that consultation, it is expected that WRE and the FWS will coordinate as necessary concerning whether an eagle take permit is needed for the Wind Project.

Finally, Friends has provided BPA with a petition from citizens opposed to the Wind Project. On behalf of these citizens, Friends' letter transmitting the petition urges BPA to deny the requested interconnection for a variety of reasons, largely similar to those expressed in other letters from Friends and addressed above. BPA respects the viewpoints and opinions expressed in the petition and understands that there are some who are opposed to the Wind Project given its location. BPA has included consideration of the petition in making its decision (see “BPA's Rationale for Decision” section below).

BPA'S Rationale for Decision

In making its decision to implement its part of the Proposed Action, BPA has considered and balanced a variety of relevant factors. BPA considered how well each alternative under consideration—the Proposed Action alternative and the No Action alternative—would fit with BPA's statutory missions and relevant policies and procedures. BPA also considered the environmental impacts described in the Final EIS. In addition, BPA considered new environmental information and other circumstances, including the State of Washington's denial of certain turbine strings, addressed in the Supplement Analysis. BPA also considered public comments received throughout the NEPA process for the Project, including those received on the Draft and Final EISs. Another consideration was the extent to which each alternative under consideration would meet the following BPA purposes (i.e., objectives) identified in the Final EIS:

• Maintain the electrical stability and reliability of the FCRTS;

• Continue to meet BPA's statutory and contractual obligations;

• Act consistently with BPA's environmental and social responsibilities; and

• Provide for cost and administrative efficiency.

Finally, BPA took into consideration the State of Washington's siting authority and regulatory jurisdiction over the Wind Project, the information from the state's lengthy and extremely thorough siting process for the Wind Project, and the unanimous Washington Supreme Court decision upholding the Governor's approval of the Wind Project. The entire record of EFSEC's administrative proceedings for the Wind Project—including the EIS process and the adjudication—was certified to the Washington Supreme Court. BPA has considered that record in making its decision.

After considering and balancing all of these factors, BPA has decided to grant the requested interconnection and offer an LGIA to WRE. Approving this interconnection is consistent with the policies embodied in BPA's transmission tariff, which is based on allowing open access to transmission and interconnection services on the FCRTS. BPA has adopted its tariff to be consistent with national policy promulgated by FERC that directs transmission providers to provide open access to their transmission systems. Because WRE has complied with the established tariff procedures for proposed interconnections, BPA believes it is appropriate under its tariff to grant WRE's interconnection request.

Granting the requested interconnection will not interfere with or otherwise affect BPA's ability to maintain the stability and reliability of its transmission system. The physical interconnection of the Wind Project to the FCRTS will be designed and constructed to meet applicable reliability criteria and standards intended to maintain system stability, and the LGIA will include operating parameters and other provisions to ensure that operation of the Wind Project will not impair system reliability. Furthermore, BPA's implementation of its part of the Proposed Action will not interfere with BPA's ability to meet its statutory and contractual obligations. Although BPA has no express statutory or contractual obligation to construct the new substation that will be built for this interconnection, constructing the substation is consistent with BPA's statutory directive to make additions to the transmission system, as appropriate, in order to integrate and transmit electric power and maintain system stability and reliability.

BPA has adopted measures to ensure that granting the requested interconnection will not contribute to issues caused by generation oversupply conditions on BPA's transmission system at certain times of the year. To address these issues, BPA developed an Oversupply Management Protocol (Protocol) as an amendment to its transmission tariff. This Protocol provides a set of policies and operational practices that allow for the management of oversupply events while complying with environmental responsibilities as well as satisfying statutory and contractual obligations and maintaining reliability and stability. These Protocol goals align with BPA's purposes identified in the Final EIS. The Protocol was approved by FERC late last year, which has provided certainty with respect to BPA's approach to the management of oversupply events. Because the Wind Project will be subject to the Protocol through its LGIA, the Wind Project will not exacerbate operational and reliability issues associated with future oversupply events that may occur.

Granting the requested interconnection will serve to integrate a new renewable generating resource. This will be consistent with certain FERC interconnection policies intended to help facilitate the integration of new renewable resources, which in turn are consistent with the Obama Administration's policies and action plan to address climate change by increasing reliance on renewable resources to reduce greenhouse gas emissions.

In planning and designing the Wind Project, it is clear that WRE attempted to minimize potential environmental impacts where possible. In addition, EFSEC and BPA have identified numerous mitigation measures in the Final EIS to further reduce, avoid, or compensate for Project impacts. These measures are also included as conditions in the Final SCA for the Wind Project that EFSEC has found will ensure that the Project will produce minimal adverse environmental impacts. Nonetheless, it is acknowledged that the Project will create a number of environmental impacts even with the implementation of mitigation. These impacts, which are fully disclosed in the Final EIS, primarily include disturbance of soils, conversion of habitat, direct mortality of birds, increases in noise and traffic in the vicinity, and—characterized by EFSEC as the “most hotly contested”—impacts to scenic resources.

BPA understands the sensitivities of many individuals to these impacts, and recognizes that the prospect of these impacts has led certain individuals—as well as some groups such as Friends—to oppose the Wind Project. BPA also appreciates that the Columbia River Gorge is a special place to many people and is one of the landscapes that makes the Pacific Northwest great. However, with the extensive mitigation measures that have been identified and SCA conditions that have been imposed, BPA believes that the Project will be implemented in an environmentally responsible manner. In addition, in making a decision to grant the requested interconnection, BPA believes it has fully carried out its environmental responsibilities under NEPA, the ESA, and other applicable environmental laws.

Concerning impacts to scenic resources, BPA recognizes that the State of Washington's decision to deny turbine strings A-1 through A-7 and C-1 through C-8 served to mitigate the most significant visual impacts of the Wind Project. Accordingly, these impacts have been substantially reduced from those depicted in the visual simulations included in the Final EIS. BPA respects and appreciates the sentiments expressed by Governor Gregoire in her March 2012 approval letter concerning the evaluation of visual impacts that led to the state's decision to not approve the most visually prominent turbines associated with the Wind Project. BPA agrees that the Columbia River Gorge is a unique and beautiful landscape, and that proposed development within view of the Columbia River Gorge—even if outside of the Scenic Area as is the case with the Wind Project—warrants thoughtful and careful consideration of its potential to impact scenic resources. BPA believes that such consideration has been amply demonstrated in this case, and that definite and effective action has been taken by the State of Washington to reasonably help protect views as a result of this consideration. Furthermore, BPA agrees with the Governor that the state-approved Wind Project strikes an effective balance between minimizing visual impacts while still carrying out the public interest of the State of Washington in approving sites for alternative energy facilities.

The total cost of the BPA interconnection facilities is estimated at $12.6 million. All costs associated with these facilities will be advance funded by WRE and administration of contracts with WRE will follow normal, established procedures. In accordance with BPA's open access transmission tariff, WRE will be eligible to receive transmission credits for any portion of the interconnection facilities that constitute network upgrades. BPA believes that this approach provides for both cost and administrative efficiencies.

Finally, in deciding to grant the requested interconnection, BPA believes it is being appropriately respectful of state authorities concerning the siting of non-federal generation projects. As has been mentioned previously in this Record of Decision, BPA does not have siting authority or regulatory jurisdiction over these facilities. That is the purview of appropriate state and local entities, in this case Washington EFSEC and, ultimately, the Washington Governor. BPA notes that the siting process conducted by the State of Washington for the Wind Project was both lengthy and extremely thorough, and addressed many of the same environmental issues also considered in the Final EIS for the Project. BPA also notes that the State of Washington decided to approve construction and operation of the Wind Project on the basis of the siting process and Final EIS. Finally, BPA notes that this approval was upheld by the Washington Supreme Court in a legal challenge of the siting process brought against the State of Washington. In light of this, granting the requested interconnection provides the appropriate comity to the State of Washington's legally executed overall authorities concerning the siting of the Wind Project.

Mitigation

All the mitigation measures described in the Draft EIS and updated in the Final EIS have been adopted. A complete list of these measures can be found in the Mitigation Action Plan. WRE will be responsible for executing mitigation measures identified for the Wind Project, while BPA will be responsible for executing the mitigation measures associated with the BPA interconnection facilities.

In addition to identifying mitigation measures in the EIS, the State of Washington has included numerous conditions in the Final SCA for the Wind Project that are intended to ensure that the Wind Project is built and operated in a way that preserves and protects the quality of the environment. As environmental mitigation, Washington EFSEC has found that these conditions will ensure that the Project will produce minimal adverse environmental effects. WRE will be required to comply with these Final SCA conditions. As discussed above, the Final SCA is available at http://www.efsec.wa.gov/whistling%20ridge.shtml.

Issued in Portland, Oregon.
Dated: June 24, 2015.
Elliot E. Mainzer,
Administrator and Chief Executive Officer.

[FR Doc. 2015-17087 Filed 7-13-15; 8:45 am]

BILLING CODE 6450-01-P